DEPARTMENT OF DEFENSE

Office of the Secretary

[Docket ID DoD-2021-OS-0089]

Privacy Act of 1974; System of Records

AGENCY: Under Secretary of Defense for Personnel and Readiness (USD(P&R)), Department of Defense (DoD).

ACTION: Notice of a new system of records.

SUMMARY: The USD(P&R) is establishing a new system of records titled “Problematic Sexual Behavior in Children and Youth (PSB-CY) Information System,” DPR 50. This system of records supports operation of the PSB-CY Information System, which was created to satisfy a congressional mandate that the DoD establish a centralized database of information on incidents of problematic sexual behavior in children and youth occurring on U.S. military installations. The PSB-CY Information System is used to document, coordinate, and manage the continuum of care provided to children, youth, and their families in order to identity, report, respond, and intervene in incidents of PSB-CY. The system will also support the implementation of well-coordinated safety planning, support services, and referrals to specialized services when appropriate that will meet the complex needs of children, youth, and their families involved in incidents of PSB-CY.

DATES: This system of records is effective upon publication; however, comments on the Routine Uses will be accepted on or before September 22, 2021. The Routine Uses are effective at the close of the comment period.

ADDRESSES: You may submit comments, identified by docket number and title, by any of the following methods:

* Federal Rulemaking Portal: https://www.regulations.gov. Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Mr. Justin (JK) Kinnaman, 4000 Defense Pentagon, 5E604, Washington, DC 20301-4000, osd.pentagon.ousd-p-r.mbx.mso@mail.mil or (703) 571-0104.

SUPPLEMENTARY INFORMATION:

I. Background

Section 1089 of Public Law 115-232, “Policy on Response to Juvenile-on-Juvenile Problematic Sexual Behavior Committed on Military Installations,” mandates the establishment of a centralized database of information on incidents of problematic sexual behavior in children and youth on U.S. military installations. The DoD established the PSB-CY Information System to satisfy this legal requirement. This notice alerts the public to the existence and operation of this new system of records pursuant to the Privacy Act.

The PSB-CY Information System will capture inputs from multiple DoD agencies, thereby consolidating and tracking record-level information for each incident of PSB-CY that is reported to the Department. Tracking in the PSB-CY Information System will span the full life-cycle of an incident, consolidating and tracking the case from the time of report through the coordinated community response continuum of care to resolution and closure. The system will maintain separate records on both exhibiting and impacted children related to incidents of problematic sexual behavior in children and youth on U.S. Military installations. The system will also be used as a management tool for statistical analysis, tracking, reporting, evaluating program effectiveness and continuous improvement.

DoD SORNs have been published in the Federal Register and are available from the address in FOR FURTHER INFORMATION CONTACT or at the Defense Privacy, Civil Liberties, and Transparency Division website at https://dpcld.defense.gov.

II. Privacy Act

Under the Privacy Act, a “system of records” is a group of records under the control of an agency from which information is retrieved by the name of an individual or by some identifying number, symbol, or other identifying particular assigned to the individual. In the Privacy Act an individual is defined as a U.S. citizen or lawful permanent resident.

In accordance with 5 U.S.C. 552a(r) and Office of Management and Budget (OMB) Circular No. A-108, the DoD has provided a report of this system of records to the OMB and to Congress.

Dated: August 18, 2021.
Aaron T. Siegel,
Alternate OSD Federal Register Liaison Officer, Department of Defense.

SYSTEM NAME AND NUMBER:

Problematic Sexual Behavior in Children and Youth (PSB-CY) Information System, DPR 50.

SECURITY CLASSIFICATION:

Unclassified.

SYSTEM LOCATION:

Defense Information Systems Agency (DISA), 6910 Cooper Avenue, Fort Meade, MD 20755; and Military Community and Family Policy (MC&FP) IT and Cyber Operations, 4800 Mark Center Drive, Alexandria, VA 22350-2300.

SYSTEM MANAGER(S):

Director, Office of Military Family Readiness Policy (OMFRP) or the Associate Director, Child and Youth Advocacy Program (CYAP), MC&FP, 4800 Mark Center Drive, Alexandria, VA 22350-2300; phone: (571) 372-4346, cell: (703) 409-8537.

AUTHORITY FOR MAINTENANCE OF THE SYSTEM:

10 U.S.C. Section 1781, Office of Military Family Readiness Policy; Public Law (Pub. L.) 115-232, section 1089, “Policy on Response to Juvenile-on-Juvenile Problematic Sexual Behavior Committed on Military Installations.”

PURPOSE(S) OF THE SYSTEM:

The PSB-CY Information System is used to:

A. Document, coordinate, and manage the continuum of care provided to children, youth, and their families in order to identify, report, respond, and intervene in incidents of PSB-CY occurring on U.S. military installations.

B. Ensure and implement well-coordinated safety planning, treatment, and support services to address smooth and uninterrupted referrals to specialized services in order to create and maintain safety for and meet the complex needs of children, youth, and their families involved in incidents of PSB-CY.

C. Support statistical analysis, tracking and reporting to ensure continuous process improvement.

CATEGORIES OF INDIVIDUALS COVERED BY THE SYSTEM:

A. Exhibiting child under the age of 18 years at the time of an incident of problematic sexual behavior occurring on a military installation.

B. Impacted child(ren) under the age of 18 years at the time of an incident of problematic sexual behavior occurring on a military installation.

CATEGORIES OF RECORDS IN THE SYSTEM:

Concerning the child (to include the exhibiting child and impacted children): Name; age; date of birth; Social Security Numbers (SSNs); emergency contact data; gender/gender identification; medical information such as case notes, clinical assessment details, description of incident, risk and safety plan, substance use details at time of incident, clinical treatment plan. The records will also contain information about the parent/legal guardian of the children, such as name; date of birth; Department of Defense (DoD) Identification Number; rank/grade; marital status; work and home contact information (such as phone number and/or cellular phone; mailing and email addresses to include official duty address); military records; race/ethnicity; and education information.

Note: Separate electronic records are maintained on the exhibiting child and impacted child(ren).

RECORD SOURCE CATEGORIES:

Child development centers, military treatment facilities, DoD schools, and individuals such as parent/legal guardians, and exhibiting or impacted children only if their parent/legal guardian give(s) consent.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3) as follows:

A. To contractors, grantees, experts, consultants, students, and others performing or working on a contract, service, grant, cooperative agreement, or other assignment for the federal government when necessary to accomplish an agency function related to this system of records.

B. To the appropriate federal, state, local, territorial, tribal, or foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects of confirms a breach of the system of records; (2) the DoD determined as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To such recipients and under such circumstances and procedures as are mandated by Federal statute or treaty.

POLICIES AND PRACTICES FOR STORAGE OF RECORDS:

Records are maintained in electronic storage media, in accordance with the safeguards identified in this SORN. Electronic records may be stored in agency-owned cloud environments; or in vendor Cloud Service Offerings certified under the Federal Risk and Authorization Management Program (FedRAMP).

POLICIES AND PRACTICES FOR RETRIEVAL OF RECORDS:

Information in this system may be retrieved by the exhibiting or impacted child's name and SSN.

POLICIES AND PRACTICES FOR RETENTION AND DISPOSAL OF RECORDS:

Cut off and destroy 5 years after the end of the calendar year the case is closed or when a minor child reaches 23 years old.

ADMINISTRATIVE, TECHNICAL, AND PHYSICAL SAFEGUARDS:

Administrative: Backups secured off-site; encryption of backups; methods to ensure only authorized personnel have access to personally identifiable information; periodic security audits; regular monitoring of users' security practices. Technical: Biometrics; encryption of data at rest; firewall; role-based access controls; Virtual Private Network (VPN); Common Access Card (CAC); encryption of data in transit; Intrusion Detection System (IDS); DoD public key infrastructure certificates; least privilege access. Physical: Cipher locks; combination locks; key cards; security guards; Closed Circuit TV (CCTV); identification badges; and safes.

RECORD ACCESS PROCEDURES:

Individuals seeking access to their records should follow the procedures in 32 CFR part 310. Parents and guardians of minor children must follow the procedures in 32 CFR 310.3(d) to obtain access to records of the child. These procedures require the parent or legal guardian to establish: (1) The identity of the individual who is the subject of the record; (2) the parent/guardian's own identity; (3) that the requester is the parent or guardian of that individual, which may be proven by providing a copy of the individual's birth certificate showing parentage or a court order establishing the guardianship; and (4) that the parent or guardian is acting on behalf of the individual in making the request. Individuals should address written record access requests to the Office of the Secretary of Defense/Joint Staff Freedom of Information Act Requester Service Center, 1155 Defense Pentagon, Washington, DC 20701-1155; Requester Service Center website: https://www.esd.whs.mil/FOID/. Signed, written requests should include the individual's full name, telephone number, street address, email address, and name and number of this SORN. In addition, the requester must provide either a notarized statement or a declaration made in accordance with 28 U.S.C. 1746, using the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310.

NOTIFICATION PROCEDURES:

Individuals seeking to determine whether information about themselves is contained in this system should follow the instructions for Record Access Procedures above.

EXEMPTIONS PROMULGATED FOR THE SYSTEM:

None.

HISTORY:

N/A.

[FR Doc. 2021-18025 Filed 8-20-21; 8:45 am]

BILLING CODE 5001-06-P